DEPARTMENT OF ENERGY

Federal Energy Regulatory Commission

[P-12514-000, Indiana]

Norway-Oakdale Project; Northern Indiana Public Service Company; Notice of Availability of Final Environmental Assessment

February 16, 2007.

In accordance with the National Environmental Policy Act (NEPA) of 1969, as amended, and Federal Energy Regulatory Commission (Commission) regulations (18 CFR part 380), Commission staff has reviewed the application for license for the Norway-Oakdale Project and have prepared a final environmental assessment (FEA) for the project. The project is located on the Tippecanoe River in Carroll and White counties, Indiana.

In this FEA, Commission staff analyzes the probable environmental effects of implementing the project and conclude that approval of the project, with appropriate staff-recommended environmental measures, would not constitute a major federal action significantly affecting the quality of the human environment.

Copies of the FEA are available for review in Public Reference Room 2-A of the Commission's offices at 888 First Street, NE., Washington, DC. The FEA also may be viewed on the Commission's Internet Web site (http://www.ferc.gov) using the “eLibrary” link. Additional information about the project is available from the Commission's Office of External Affairs at (202) 502-6088, or on the Commission's website using the “eLibrary” link. For assistance with eLibrary, contact FERCOnlineSupport@ferc.gov; call toll-free at (866) 208-3676; or, for TTY, contact (202) 502-8659.

For further information, please contact Sergiu Serban (202) 502-6211 or at sergiu.serban@ferc.gov.

Magalie R. Salas,
Secretary.

[FR Doc. E7-3346 Filed 2-26-07; 8:45 am]

BILLING CODE 6717-01-P